SMALL BUSINESS ADMINISTRATION

[Disaster Declaration #14102]

Missouri Disaster #MO-00072 Declaration of Economic Injury

AGENCY: U.S. Small Business Administration.

ACTION: Amendment 1.

SUMMARY: This is an amendment of the Economic Injury Disaster Loan (EIDL) declaration for the State of Missouri, dated 09/03/2014.

Incident: Civil Unrest.

Incident Period: 08/09/2014 and continuing through 12/17/2014.

Effective Date: 12/22/2014.

EIDL Loan Application Deadline Date: 06/03/2015.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Economic Injury disaster declaration for the State of Missouri, dated 09/03/2014 is hereby amended to establish the incident period for this disaster as beginning 08/09/2014 and continuing through 12/17/2014.

All other information in the original declaration remains unchanged.

(Catalog of Federal Domestic Assistance Number 59002)

Dated: December 22, 2014.
Maria Contreras-Sweet,
Administrator.

[FR Doc. 2014-30733 Filed 12-31-14; 8:45 am]

BILLING CODE 8025-01-P